DEPARTMENT OF JUSTICE

Notice of Lodging of Proposed Consent Decree Under The Clean Water Act

On April 2, 2018, the Department of Justice (DOJ) lodged a proposed Consent Decree with the United States District Court for the Northern District of Indiana in United States and State of Indiana v. United States Steel Corporation, Civil Action No. 2:18-cv-00127. The lodging of the proposed Decree immediately followed DOJ's filing in the same court of a civil complaint (Complaint) against United States Steel Corporation (U.S. Steel).

The proposed Consent Decree resolves Clean Water Act and Emergency Planning and Community Right-to-Know Act claims in the Complaint by the United States on behalf of the U.S. Environmental Protection Agency (EPA), the National Park Service (NPS), and the National Oceanic and Atmospheric Administration (NOAA), and by Co-Plaintiff the State of Indiana (State) on behalf of the Indiana Department of Environmental Management and the Indiana Department of Natural Resources. Under the proposed Decree, U.S. Steel agrees, among other things, to undertake measures to improve its wastewater processing monitoring system at its steel manufacturing and finishing facility, known as the Midwest Plant, in Portage, Indiana. U.S. Steel also agrees to pay a civil penalty to EPA and the State and to reimburse EPA and the NPS for response costs incurred as a result of an April 2017 spill of wastewater containing hexavalent chromium. U.S. Steel will also pay costs to NOAA for assessing natural resource damages due to the April 2017 spill, and damages to NPS resulting from the closure of several beaches along the Indiana Dunes National Lakeshore due to the spill.

The publication of this notice opens a period for public comment on the proposed Consent Decree. Comments should be addressed to the Assistant Attorney General, Environment and Natural Resources Division, and should refer to United States et al v. United States Steel Corporation, D.J. Ref. No. 90-5-2-1-06476/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611 Washington, D.C. 20044-7611.

During the public comment period, the proposed Consent Decree may be examined and downloaded at this Justice Department website: http://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $14.25 (25 cents per page reproduction cost), payable to the United States Treasury.

Randall M. Stone,
Acting Assistant Section Chief, Environmental Enforcement Section, Environment and Natural Resources Division.

[FR Doc. 2018-07077 Filed 4-5-18; 8:45 am]

BILLING CODE 4410-15-P